DEPARTMENT OF COMMERCE

International Trade Administration

[A-570-863]

Honey From the People's Republic of China: Extension of Time Limit for Final Results of the Antidumping Duty Administrative Review

AGENCY: Import Administration, International Trade Administration, Department of Commerce.

DATES: Effective Date: February 27, 2012.

FOR FURTHER INFORMATION CONTACT: Catherine Bertrand, AD/CVD Operations, Office 9, Import Administration, International Trade Administration, Department of Commerce, 14th Street and Constitution Avenue NW., Washington, DC 20230; telephone: (202) 482-3207.

Background

On January 3, 2012, the Department of Commerce (“Department”) published the notice preliminarily rescinding the antidumping duty administrative review on honey from the People's Republic of China (“PRC”), covering the period December 12, 2009, through November 30, 2010. See Honey From the People's Republic of China: Preliminary Rescission of the Administrative Review, 77 FR 79 (January 3, 2012). The final results are currently due on May 2, 2012.

Extension of Time Limits for Final Results

Section 751(a)(3)(A) of the Tariff Act of 1930, as amended (“Act”), requires the Department to issue the final results in an administrative review of an antidumping duty order 120 days after the date on which the preliminary results are published. The Department may, however, extend the deadline for completion of the final results of an administrative review to 180 days if it determines it is not practicable to complete the review within the foregoing time period. See section 751(a)(3)(A) of the Act and 19 CFR 351.213(h)(2).

The Department requires additional time to complete this review because the Department must fully analyze and consider significant issues regarding whether the respondent's sales were bona fide. Further, the Department extended the due date for submission of the rebuttal comments to the case briefs at the request of an interested party. Thus, it is not practicable to complete this review within the time specified under the Act. Therefore, we are extending the time for the completion of the final results of this review by 40 days to June 11, 2012.

This notice is published in accordance with sections 751(a)(1) and 777(i)(1) of the Act.

Dated: February 21, 2012.
Christian Marsh,
Deputy Assistant Secretary for Antidumping and Countervailing Duty Operations.

[FR Doc. 2012-4490 Filed 2-24-12; 8:45 am]

BILLING CODE 3510-DS-P